SECURITIES AND EXCHANGE COMMISSION

Proposed Collection; Comment Request

Upon Written Request, Copies Available From: Securities and Exchange Commission, Office of Filings and Information Services, Washington, DC 20549

Extension:

Form T-6, SEC File No. 270-344, OMB Control No. 3235-0391

Form 11-K, SEC File No. 270-101, OMB Control No. 3235-0082

Form 144, SEC File No. 270-112, OMB Control No. 3235-0101

Regulation S-B, SEC File No. 270-370, OMB Control No. 3235-0417

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Form T-6 is a statement of eligibility and qualification for a foreign corporate trustee under the Trust Indenture Act of 1939. Form T-6 provides the basis for determining if a trustee is qualified. All information is provided to the public upon request. Form T-6 takes approximately 17 burden hours to be prepared and is filed by 15 respondents. It is estimated that 25% of the 255 total burden hours (64 hours) would be prepared by the filer.

Form 11-K is the annual report designed for use by employee stock purchase, savings and similar plans to facilitate their compliance with the reporting requirement. Form 11-K is necessary to provide employees with information, including financial information, with respect to the investment vehicle or plan itself. Form 11-K provides the employees in turn with the necessary information to assess the performance of the investment vehicle in which their money is invested. Form 11-K is filed on occasion and the information required is mandatory. All information is provided to the public upon request. Form 11-K takes approximately 30 burden hours to prepare and is filed by 774 respondents for a total of 23,220 annual burden hours.

Form 144 is used to report the sale of securities during any three month period that exceeds 500 shares or other units or has an aggregate sales price in excess of $10,000. The information requested is mandatory. Form 144 operates in conjunction with Rule 144. If the information collection was not required, the objectives of the rule could be frustrated. All information is provided to the public upon request. Form 144 takes approximately 2 burden hours to prepare and is filed by 18,096 respondents for a total of 36,192 annual burden hours.

Regulation S-B provides an integrated disclosure system for small business issuers that file registration statements under the Securities Act of 1933 and reports under the Securities Exchange Act of 1934. The information requested is mandatory. The information collected is intended to ensure the adequacy of information is available to investors in the registration of securities. All information is provided to the public upon request. Regulation S-B takes approximately one burden hour to review and is filed by one respondent for a total of one annual burden hour. The one hour associated with Regulation S-B is strictly an administrative reporting burden.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW, Washington, DC 20549.

Dated: April 19, 2000.
Margaret H. McFarland,
Deputy Secretary.

[FR Doc. 00-10728 Filed 4-28-00; 8:45 am]

BILLING CODE 8010-01-M